NUCLEAR REGULATORY COMMISSION

[NRC-2009-0435]

Extension of Public Comment Period on the Draft Environmental Assessment and Draft Finding of No Significant Impact for the Proposed License Renewal for Nuclear Fuel Services, Inc., Erwin, TN

AGENCY: U.S. Nuclear Regulatory Commission.

ACTION: Extension of public comment period.

SUMMARY: On October 15, 2010, the U.S. Nuclear Regulatory Commission (NRC) published a notice in the Federal Register (75 FR 63519), which announced, in part, that the public comment period for the U.S. Nuclear Regulatory Commission's (NRC's) Draft Environmental Assessment (EA) and Draft Finding of No Significant Impact (FONSI) for the proposed license renewal for operations at the Nuclear Fuel Services, Inc. (NFS) fuel fabrication facility in Erwin, Tennessee, closed on November 13, 2010. The purpose of this notice is to extend the public comment period on the Draft EA and Draft FONSI to December 31, 2010. On October 26, 2010, the NRC held a public meeting in Erwin, Tennessee, as part of the public comment process for the Draft EA and Draft FONSI. Additionally, members of the public have been submitting written comments on the Draft EA and Draft FONSI since the initial notice of availability of these documents was published on October 15, 2010. In response to requests received in writing, the comment period on the Draft EA and Draft FONSI is being extended to December 31, 2010.

DATES: The comment period for the notice published October 15, 2010 (75 FR 63519), is extended to December 31, 2010. The NRC will consider comments received or postmarked after that date to the extent practical. Written comments should be submitted as described in the ADDRESSES section of this notice.

ADDRESSES: Members of the public may submit comments by any one of the following methods. Please include Docket ID NRC-2009-0435 in the subject line of your comments.

Electronic Mail: Comments may be sent by electronic mail to the following address: NuclearFuel_DraftEA@nrc.gov.

Federal Rulemaking Web site: Go to http://www.regulations.gov and search for documents filed under Docket ID NRC-2009-0435. Comments may be submitted electronically through this Web site. Address questions about NRC dockets to Carol Gallagher, 301-492-3668, e-mail Carol.Gallagher@nrc.gov.

Mail comments to: Cindy Bladey, Chief, Rules, Announcements, and Directives Branch (RADB), Division of Administrative Services, Office of Administration, Mail Stop: TWB-05-B01M, U.S. Nuclear Regulatory Commission, Washington, DC 20555-0001, or by fax to RADB at 301-492-3446.

Comments submitted in writing or in electronic form will be posted on the NRC Web site and on the Federal rulemaking Web site http://www.regulations.gov. Unless your comments contain sensitive information typically not released to the public by NRC policy, the NRC will make all comments publicly available. Because your comments will not be edited to remove any identifying information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Availability: Publicly available documents related to this notice can be accessed using any of the methods described in this section.

NRC's Public Document Room (PDR): The public may examine and have copied, for a fee, publicly available documents related to the NFS facility and license renewal at the NRC's PDR, located at One White Flint North, 11555 Rockville Pike (first floor), Rockville, Maryland 20852. Members of the public can contact the NRC's PDR reference staff by calling 1-800-397-4209, by faxing a request to 301-415-3548, or by e-mail to pdr.resource@nrc.gov.

NRC's Agencywide Documents Access and Management System (ADAMS): Members of the public can access the NRC's ADAMS at http://www.nrc.gov/reading-rm/adams.html. From this Web site, the Draft FONSI (ADAMS Accession Number: ML102790260) and supporting Draft EA (ADAMS Accession Number: ML102650505) can be obtained by entering the accession numbers provided.

Federal Rulemaking Web site: Public comments and supporting materials related to this notice can be found at http://www.regulations.gov by searching on Docket ID: NRC-2009-0435.

Additionally, copies of the Draft FONSI and supporting Draft EA are available at the following public libraries:

Unicoi County Public Library, 201 Nolichucky Avenue, Erwin, Tennessee 37650-1239. 423-743-6533.

Jonesborough Branch, Washington County Library, 200 Sabin Drive, Jonesborough, Tennessee 37659-1306. 423-753-1800.

Greeneville/Green County Public Library, 210 North Main Street, Greeneville, Tennessee 37745-3816. 423-638-5034.

FOR FURTHER INFORMATION CONTACT: For information about the Draft FONSI, the Draft EA, or the environmental review process, please contact James Park at 301-415-6935 or James.Park@nrc.gov. For general or technical information associated with the review of the NFS license renewal application, please contact Kevin Ramsey at 301-492-3123 or Kevin.Ramsey@nrc.gov.

SUPPLEMENTARY INFORMATION: The Draft FONSI and supporting Draft EA are a preliminary analysis of the environmental impacts of the proposal by NFS to renew its NRC license and reasonable alternatives to that proposal. Based on comments received on the Draft FONSI and Draft EA, the staff may publish a Final FONSI and Final EA, or instead may find that preparation of an Environmental Impact Statement (EIS) is warranted should significant impacts resulting from the proposed action be identified. Should an EIS be warranted, a Notice of Intent to prepare the EIS will be published in the Federal Register.

Pursuant to 10 CFR 51.33(a), the NRC staff is making the Draft FONSI and Draft EA available for public review and comment. The public comment period is extended with publication of this Notice and continues until December 31, 2010.

Dated at Rockville, Maryland, this 16th day of November 2010.
For the Nuclear Regulatory Commission.
Kevin Hsueh,
Acting Deputy Director, Environmental Protection and Performance Assessment Directorate, Division of Waste Management and Environmental Protection, Office of Federal and State Materials and Environmental Management Programs.

[FR Doc. 2010-29364 Filed 11-18-10; 8:45 am]

BILLING CODE 7509-01-P